DEPARTMENT OF LABOR

Employment and Training Administration

[TA-W-52,578]

Goodyear Tire & Rubber Co., Cartersville, GA; Notice of Termination of Investigation

Pursuant to section 221 of the Trade Act of 1974, as amended, an investigation was initiated on August 18, 2003, in response to a worker petition filed jointly by the company and the Union of Needletrades, Industrial and Textile Employees on behalf of workers at Goodyear Tire & Rubber Company, Cartersville, Georgia.

The petitioner has requested that the petition be withdrawn. Consequently, the investigation has been terminated.

Signed at Washington, DC, this 22nd day of August, 2003.
Linda G. Poole,
Certifying Officer, Division of Trade Adjustment Assistance.

[FR Doc. 03-24722 Filed 9-29-03; 8:45 am]

BILLING CODE 4510-30-P